DEPARTMENT OF JUSTICE

Notice of Lodging of Proposed Agreement and Order Regarding Modification of the Consent Decree With Respect to TESI Under the Clean Water Act

On September 30, 2016, the Department of Justice lodged a proposed Agreement and Order Regarding Modification of the Consent Decree With Respect to TESI (“Consent Decree Modification”) with the United States District Court for the Western District of Louisiana in the lawsuit entitled United States and the State of Louisiana v. Acadia Woods Add. #2 Sewer Co., et al., Civil Action No. 6:98-cv-0687.

In its Second Amended Complaint, the United States alleged claims related to violations of the Clean Water Act and applicable discharge permits at sewage treatment plants in Louisiana owned and operated by Johnson Properties, Inc. and its subsidiaries. Subsequently, the sewage treatment plants were sold to Intervening Defendant Total Environmental Solutions, Inc. (“TESI”). The United States, Louisiana, and TESI agreed to the Consent Decree with Respect to TESI (“the Consent Decree”) which was entered by the Court on December 21, 2000. In the Consent Decree, TESI committed to operate the sewage treatment plants without service interruption and implement compliance measures intended to cause the sewage treatment plants to achieve compliance with the requirements of the CWA and the applicable discharge permits. The proposed Consent Decree Modification would modify the Consent Decree by requiring TESI to achieve compliance with the requirements of the Clean Water Act and the applicable discharge permits by implementing additional compliance measures. The Modified Consent Decree also specifies procedures and a schedule pursuant to which TESI, after it implements the additional compliance measures, will request removal of STPs from the Modified Consent Decree. Finally, the proposed Consent Decree Modification would revised the stipulated penalty provisions.

The publication of this notice opens a period for public comment on the proposed Consent Decree Modification. Comments should be addressed to the Assistant Attorney General, Environment and Natural Resources Division, and should refer to United States and the State of Louisiana v. Acadia Woods Add. #2 Sewer Co., D.J. Ref. No. 90-5-1-1-4375. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree Modification may be examined and downloaded at this Justice Department Web site: https://www.justice.gov/enrd/consent-decrees. We will provide a paper copy of the proposed Consent Decree Modification upon written request and payment of reproduction costs. Please mail your request and payment to: Consent Decree Library, U.S. DOJ—ENRD, P.O. Box 7611, Washington, DC 20044-7611.

Please enclose a check or money order for $62.75 (25 cents per page reproduction cost) payable to the United States Treasury. For a paper copy of the proposed Consent Decree Modification without appendices, the cost is $8.75.

Thomas P. Carroll,
Assistant Section Chief, Environmental Enforcement Section, Environment and Natural Resources Division.

[FR Doc. 2016-24258 Filed 10-6-16; 8:45 am]

BILLING CODE 4410-15-P